DEPARTMENT OF LABOR

Occupational Safety and Health Administration

Maritime Advisory Committee on Occupational Safety and Health

AGENCY: Occupational Safety and Health Administration (OSHA), Labor.

ACTION: Reestablishment of the Maritime Advisory Committee for Occupational Safety and Health (MACOSH); Appointment of Committee Members.

SUMMARY: The Secretary of Labor has re-established the charter of the Maritime Advisory Committee for Occupational Safety and Health (MACOSH), which expired on March 10, 2002. The Committee has been chartered for a two year term. The purpose of MACOSH is to provide advice for the Assistant Secretary of Labor for Occupational Safety and Health (Assistant Secretary) on all matters relevant to the safety and health of workers in that sector. The Assistant Secretary will seek the advice of this Committee, which consists of a broad range of representatives from the maritime industry, on activities in the maritime industry related to the Agency's overall priorities, including: Strong, fair, and effective enforcement; expanded compliance assistance, guidance, and outreach; expanded partnerships and voluntary programs; leadership in the national dialogue on occupational safety and health; and regulatory matters affecting the maritime industry, as appropriate. The Committee is diverse and balanced, both in terms of segments of the maritime industry represented (i.e., shipyard and marine cargo handling industries), and in the views or interests represented by the members (employer, employee, government organizations with interests or activities related to the maritime industry, the states, and the public). The Agency expects to announce, in the near future, a notice of the first meeting of the new Committee. The public is encouraged to attend these meetings.

Mail comments, views, or statements in response to this notice to Paul Bolon, Director, Office of Maritime, OSHA, U.S. Department of Labor, Room N-3609, 200 Constitution Avenue, NW., Washington, DC 20210. Phone: (202) 693-2086; Fax: (202) 693-1667.

FOR FURTHER INFORMATION CONTACT: Bonnie Friedman, OSHA, Office of Public Affairs, Room N-3647, U.S. Department of Labor, 200 Constitution Avenue, NW., Washington, DC 20210; Telephone: (202) 693-1999.

SUPPLEMENTARY INFORMATION:

I. Background

On June 21, 2002, the Secretary of Labor announced her intention to re-establish a Maritime Advisory Committee for Occupational Safety and Health (67 FR 42292). The maritime industries have historically had a high incidence of illnesses and injuries in their workforces. The types of work performed can be quite different in various parts of the industries, ranging from steel fabrication and outfitting operations in shipyards to intermodal container handling or grain handling in longshoring operations. OSHA has targeted the maritime industries for special attention because of the incidence of illnesses and injuries and the specialized nature of much of the work. This targeting has included development of guidance and outreach materials specific to the industry, as well as rulemaking to update requirements and other activities to help focus actions on the industry and to help reduce the occurrence of illnesses and injuries in these industries. This Committee will be used to advise OSHA on these ongoing activities, as well as in any new areas in which the Agency seeks to pursue or expand its programs and projects to further address these specific needs. The advice of the Committee will help the Agency in terms of substantive input on conditions in the industry, ideas that may be implemented to reduce illnesses and injuries, and feedback on Agency initiatives in the maritime industry.

II. Establishment

The Committee will function solely as an advisory body, and in compliance with the provisions of Section 7(b) of the OSH Act (29 U.S.C. 656), the Federal Advisory Committee Act (5 U.S.C. App. 2), and 41 CFR part 102-3.

III. Appointment of Committee Members

Fifty-three nominations of highly qualified individuals were received in response to the Agency's request for nominations. The Secretary has selected the following individuals who have a wide range of experience concerning the issues to be examined by the Committee:

Jim Burgin, National Maritime Safety Association;

Keith D. Cameron, U.S. Coast Guard;

Albert Cernadas, International Longshore Association;

Michael Flynn, International Association of Machinists and Aerospace Workers;

Mike E. Freese, International Longshore and Warehouse Union;

Stephen D. Hudock, NIOSH;

William McGill, International Brotherhood of Electrical Workers;

Captain John McNeill, Pacific Maritime Association;

Dan Nadeau, Bath Iron Works;

Captain Teresa Preston, Atlantic Marine;

James Thornton, Northrop Grumman Newport News Shipyard; and

Earnest Whelan, International Union of Operating Engineers.

IV. Authority

This notice was prepared under the direction of John L. Henshaw, Assistant Secretary for Occupational Safety and Health. It is issued under 7(b) of the OSH Act (29 U.S.C. 656), the Federal Advisory Committee Act (FACA) (5 U.S.C. App. 2), GSA's FACA Regulations (41 CFR part 102-3), and DLMS 3 Chapter 1600.

Signed at Washington, DC, this 28th day of July, 2003.
John L. Henshaw,
Assistant Secretary of Labor.

[FR Doc. 03-19514 Filed 7-30-03; 8:45 am]

BILLING CODE 4510-26-M